DEPARTMENT OF THE TREASURY

Financial Crimes Enforcement Network; Proposed Collection; Comment Request; Currency Transaction Report by Casinos—Nevada

AGENCY: Financial Crimes Enforcement Network (“FinCEN”), Treasury.

ACTION: Notice and request for comments.

SUMMARY: As part of its continuing effort to reduce paperwork and respondent burden, FinCEN invites comment on a proposed revision to the Currency Transaction Report—Nevada (“CTRC-N”) and editorial changes to the instructions. This request for comments is being made pursuant to the Paperwork Reduction Act of 1995, Public Law 104-13, 44 U.S.C. 3506(c)(2)(A).

DATES: Written comments are welcome and must be received on or before August 25, 2003.

ADDRESSES: Written comments should be submitted to: Office of Chief Counsel, Financial Crimes Enforcement Network, Department of the Treasury, P.O. Box 39, Vienna, Virginia 22183, Attention: PRA Comments—CTRC-N Form. Comments also may be submitted by electronic mail to the following Internet address: regcomments@fincen.treas.gov, again with a caption, in the body of the text, “Attention: PRA Comments—CTRC-N Form.”

Inspection of comments. Comments may be inspected, between 10 a.m. and 4 p.m., in the FinCEN reading room in Washington, DC. Persons wishing to inspect the comments submitted must request an appointment by telephoning (202) 354-6400.

FOR FURTHER INFORMATION CONTACT: Daniel P. Haley, Regulatory Program Compliance Specialist, Office of Regulatory Programs, FinCEN, at (202) 354-6400; and Judith R. Starr, Chief Counsel and Alma Angotti, Enforcement Counsel, Office of Chief Counsel, FinCEN, at (703) 905-3590.

SUPPLEMENTARY INFORMATION: Title: Currency Transaction Report by Casinos—Nevada (CTRC-N).

OMB Number: 1506-0003.

Form Number: FinCEN Form 103-N (Formerly 8852).

Abstract: The statute generally referred to as the “Bank Secrecy Act,” Titles I and II of Public Law 91-508, as amended, codified at 12 U.S.C. 1829b, 12 U.S.C. 1951-1959, and 31 U.S.C. 5311-5332, authorizes the Secretary of the Treasury, inter alia, to require financial institutions to keep records and file reports that are determined to have a high degree of usefulness in criminal, tax, and regulatory matters, or in the conduct of intelligence or counter-intelligence activities; to protect against international terrorism, and to implement counter-money laundering programs and compliance procedures.¹ Regulations implementing Title II of the Bank Secrecy Act appear at 31 CFR part 103. The authority of the Secretary to administer the Bank Secrecy Act has been delegated to the Director of FinCEN.

¹ Language expanding the scope of the Bank Secrecy Act to intelligence or counter-intelligence activities to protect against international terrorism was added by Section 358 of the Uniting and Strengthening America by Providing Appropriate Tools Required to Intercept and Obstruct Terrorism (USA PATRIOT ACT) Act of 2001 (the “USA Patriot Act”), Pub. L. 107-56.

Section 5313(a) authorizes the Secretary to issue regulations that require a report when “a domestic financial institution is involved in a transaction for the payment, receipt, or transfer of United States coins or currency (or other monetary instruments the Secretary of the Treasury prescribes), in an amount, denomination, or amount and denomination, or under circumstances the Secretary prescribes. Regulations implementing section 5313(a) are found at 31 CFR 103.22. In general, the regulations require the reporting of transactions in currency in excess of $10,000 a day.

Pursuant to a cooperative agreement between Treasury and Nevada, casinos in Nevada report currency transactions using the Currency Transaction Report by Casinos—Nevada, FinCEN 103-N (Formerly Form 8852).

Action: This revision makes several editorial changes to the CTRC-N. As part of an effort to standardize its forms, FinCEN is changing the form number from Form 8852 to FinCEN Form 103-N. In addition, the format of the country information in Part I items “11” and “25,” in Part II item “35,” and Part III item “45” is changed to accept two-digit country codes instead of a text country name, and information about accessing state and country codes on FinCEN's website is added to the instructions. The format for dates entered in Part I items “8” and “26,” Part II item “33,” and Part III items “48” and “51” is also changed to ease data entry on electronically prepared forms and to conform to current form style. Finally, the Paperwork Reduction Act notice has been moved to page four.

Type of Review: Regular with changes to a currently approved information collection.

Affected public: Business or other for-profit and institutions.

Frequency: As required.

Estimated Burden: Reporting average of 19 minutes per response.² Form recordkeeping average of 5 minutes per response, for a total of 24 minutes.

² This burden relates to the completion of the CTRC-N form only. The recordkeeping burden of 31 CFR 103.22 is reflected in the final rule requiring financial institutions to file currency transaction reports of suspicious activity.

Estimated number of respondents: 115.

Estimated Total Annual Responses: 136893.

Estimated Total Annual Burden Hours: 54,757.

An agency may not conduct or sponsor, and a person is not required to respond to, a collection of information unless the collection of information displays a valid OMB control number. Records required to be retained under the Bank Secrecy Act must be retained for five years.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected: (d) ways to minimize the burden of the collection of information on respondents, including through the use of automated collection techniques or other forms of information technology; and (e) estimates of capital or start-up costs and costs of operation, maintenance and purchase of services to provide information.

Dated: June 17, 2003.
James F. Sloan,
Director, Financial Crimes Enforcement Network.

BILLING CODE 4810-02-P

[FR Doc. 03-16012 Filed 6-24-03; 8:45 am]

BILLING CODE 4810-02-C